DEPARTMENT OF HEALTH AND HUMAN SERVICES

National Institutes of Health

Center for Scientific Review; Amended Notice of Meeting

Notice is hereby given of a change in the meeting of the Molecular Genetics A Study Section, June 8, 2006, 8 a.m. to June 9, 2006, 3 p.m., Hilton Crystal City, 2399 Jefferson Davis Hwy., Arlington, VA, 22202 which was published in the Federal Register on April 25, 2006, 71 FR 23929-23931.

The meeting will be held at the Radisson Hotel Old Town Alexandria, 901 North Fairfax Street, Alexandria, VA 22314. The meeting dates and time remain the same. The meeting is closed to the public.

Dated: June 1, 2006.
Anna Snouffer,
Acting Director, Office of Federal Advisory Committee Policy.

[FR Doc. 06-5256 Filed 6-8-06; 8:45 am]

BILLING CODE 4140-01-M